DEPARTMENT OF HOMELAND SECURITY

Coast Guard

[Docket No. USCG-2017-0316]

Merchant Marine Personnel Advisory Committee

AGENCY: Coast Guard, Department of Homeland Security.

ACTION: Notice of Federal Advisory Committee teleconference meeting.

SUMMARY: The Merchant Marine Personnel Advisory Committee will meet via teleconference, to complete the discussions from its March 22-23, 2017, meetings on various issues related to the training and fitness of merchant marine personnel. The teleconference will be open to the public.

DATES: The full Committee is scheduled to meet by teleconference on Tuesday, May 16, 2017, from 11 a.m. until 2 p.m. Eastern Daylight Time. Please note that this teleconference may adjourn early if the Committee has completed its business.

ADDRESSES: To join the teleconference, contact the individual listed in the FOR FURTHER INFORMATION CONTACT section to obtain the needed information no later than 5 p.m. on May 10, 2017. The number of teleconference lines is limited and will be available on a first-come, first-served basis. To physically join those participating from U.S. Coast Guard Headquarters, it will be hosted in Room 6K15-15, 2703 Martin Luther King Jr Ave SE., Washington, DC 20593-7509 (https://www.uscg.mil/baseNCR/pages/visitor_trans.asp).

Pre-registration Information: Foreign nationals participating physically at the U.S. Coast Guard Headquarters will be required to pre-register no later than 5 p.m. on April 28, 2017, to be admitted to the meeting. U.S. citizen participating physically at the U.S. Coast Guard Headquarters will be required to pre-register no later than 5 p.m. on May 10, 2017, to be admitted to the meeting. To pre-register, contact Lieutenant Junior Grade James Fortin at 202-372-1128 or james.l.fortin@uscg.mil with MERPAC in the subject line and provide your name, company, and telephone number; if a foreign national, also provide your country of citizenship, and passport number and expiration date. All attendees will be required to provide a government-issued picture identification card in order to gain admittance to the building.

For information on facilities or services for individuals with disabilities or to request special assistance at the meeting, contact the Alternate Designated Federal Officer as soon as possible using the contact information provided in the FOR FURTHER INFORMATION CONTACT section of this notice.

Instructions: You are free to submit comments at any time, including orally at the teleconference, but if you want committee members to review your comment before the teleconference, please submit your comments no later than May 10, 2017. We are particularly interested in comments on the issues in the “Agenda” section below. You must include “Department of Homeland Security” and docket number USCG-2017-0316. Written comments may also be submitted using the Federal eRulemaking Portal at http://www.regulations.gov. If you encounter technical difficulties with comment submission, contact the individual in the FOR FURTHER INFORMATION CONTACT section of this document. Comments received will be posted without alteration at http://regulations.gov, including any personal information provided. You may review the Privacy Act notice regarding the Federal Docket Management System in the March 24, 2005, issue of the Federal Register (70 FR 15086).

Docket Search: For access to the docket to read documents or comments related to this notice, go to http://www.regulations.gov, type USCG-2017-0316 in the Search box, press Enter, and then click on the item you wish to view.

FOR FURTHER INFORMATION CONTACT: Lieutenant Junior Grade James Fortin, Alternate Designated Federal Officer of the Merchant Marine Personnel Advisory Committee, 2703 Martin Luther King Jr. Ave SE., Stop 7509, Washington, DC 20593-7509, telephone 202-372-1128, fax 202-372-8385 or james.l.fortin@uscg.mil.

SUPPLEMENTARY INFORMATION: Notice of this meeting is given under the Federal Advisory Committee Act, 5 United States Code Appendix.

The Merchant Marine Personnel Advisory Committee was established under authority of section 310 of the Howard Coble Coast Guard and Maritime Transportation Act of 2014, codified at Title 46, United States Code, section 8108, and chartered under the provisions of the Federal Advisory Committee Act (Title 5, United States Code, Appendix). The Committee acts solely in an advisory capacity to the Secretary of the Department of Homeland Security through the Commandant of the Coast Guard on matters relating to personnel in the United States merchant marine, including training, qualifications, certification, documentation, and fitness standards and other matters as assigned by the Commandant. The Committee shall also review and comment on proposed Coast Guard regulations and policies relating to personnel in the United States merchant marine, including training, qualifications, certification, documentation, and fitness standards; may be given special assignments by the Secretary and may conduct studies, inquiries, workshops, and fact finding in consultation with individuals and groups in the private sector and with State or local governments; and shall advise, consult with, and make recommendations reflecting its independent judgment to the Secretary.

Agenda

The agenda for the May 16, 2017, full Committee teleconference meeting is as follows:

(1) Introduction.

(2) Designated Federal Officer announcements.

(3) Roll call of Committee members and determination of a quorum.

(4) New Business.

(a) New task statement, Military Education, Training and Assessment for STCW and National Mariner Endorsements;

(b) New task statement, Review and comment on the “Guidelines for Issuing Endorsements for Tankerman PIC Restricted to Fuel Transfers on Towing Vessels” policy letter (CG-MMC Policy Letter No. 01-17);

(c) New task statement, Provide input to MARAD's working group that will examine and assess the size of the pool of U.S. mariners necessary to support the U.S. flag fleet in times of national emergency; and

(d) New task statement, Communication between External Stakeholders and the Mariner Credentialing Program.

(e) New task statement, Fundamental requirement for Officers to read and write in English.

(5) Report summaries and recommendations from the following working groups:

(a) Task Statement 87, Review of policy documents providing guidance on the implementation of the December 24, 2013 International Convention on Standards of Training, Certification and Watchkeeping for Seafarers rulemaking;

(b) Task Statement 95, Recommendations Regarding Training Requirements for Officer Endorsements for Master or Mate (Pilot) of Towing Vessels, except Assistance Towing and Apprentice Mate (Steersman) of Towing Vessels, in Inland Service;

(c) Task Statement 96, Review and comment on the course and program approval requirements including 46 CFR 10.402, 10.403, 10.407 and NVIC 03-14 guidelines for approval of training courses and programs;

(d) Task Statement 97, Develop and recommend the specifications for a Designated Examiner, Qualified Assessor and Designated Medical Examiner online verification tool so that the public, mariners and shipping companies can verify the Designated Examiner, Qualified Assessor and Designated Medical Examiners for Coast Guard approval of individuals to perform the functions of those positions;

(e) New task statement, Military Education, Training and Assessment for STCW and National Mariner Endorsements;

(f) New task statement, Review and comment on the “Guidelines for Issuing Endorsements for Tankerman PIC Restricted to Fuel Transfers on Towing Vessels” policy letter (CG-MMC Policy Letter No. 01-17);

(g) New task statement, Provide input to MARAD's working group that will examine and assess the size of the pool of U.S. mariners necessary to support the U.S. flag fleet in times of national emergency; and

(h) New task statement, Communication between External Stakeholders and the Mariner Credentialing Program.

(6) Public comment period.

(7) Discussion of working group recommendations. The Committee will review the information presented on each issue, deliberate on any recommendations presented by the working groups, and approve/formulate recommendations. The Committee will also close any completed tasks. Official action on these recommendations may be taken on this date.

(8) Closing remarks.

(9) Adjournment of meeting.

A copy of all meeting documentation will be available at https://homeport.uscg.mil/merpac no later than May 10, 2017. Alternatively, you may contact Lieutenant Junior Grade James Fortin as noted in the FOR FURTHER INFORMATION CONTACT section above.

Public comments will be limited to three minutes per speaker. Please note that the public comment periods will end following the last call for comments. Please contact Lieutenant Junior Grade James Fortin, listed in the FOR FURTHER INFORMATION CONTACT section, to register as a speaker. Please note that the teleconference may adjourn early if the work is completed.

Dated: April 26, 2017.
J.G. Lantz,
Director of Commercial Regulations and Standards.

[FR Doc. 2017-08755 Filed 4-28-17; 8:45 am]

BILLING CODE 9110-04-P